DEPARTMENT OF THE INTERIOR

Bureau of Land Management

[BLM_NV_FRN_MO#4500179582]

Notice of Application for Withdrawal Extension for Halligan Mesa and Opportunity for Public Meeting; Nevada

AGENCY: Bureau of Land Management, Interior.

ACTION: Notice.

SUMMARY: The United States Air Force (Air Force) has filed an application requesting the Secretary of the Interior extend the withdrawal at Halligan Mesa for an additional 20 years. In 1985, Public Land Order (PLO) No. 6591 withdrew approximately 600 acres of public lands from settlement, sale, location, or entry under the general land laws, including the United States mining laws, but not the mineral leasing laws, subject to valid existing rights for a period of 20 years, and reserved the land for the use of the Air Force for a communication site and support facilities. In 2005, PLO No. 7360 extended the withdrawal as related to approximately 264 of those acres for an additional 20 years. This notice advises the public of a 90-day opportunity to comment on the withdrawal extension application and to request a public meeting.

DATES: Comments and request for a public meeting must be received by November 13, 2024.

ADDRESSES: All comments and meeting requests should be sent to the Bureau of Land Management (BLM) Nevada State Office, 1340 Financial Blvd. Reno Nv 89502. Also, comments will be available for public review at the Tonopah Field Office, P.O. Box 911 (1553 South Main Street), Tonopah, NV 89049, during regular business hours 8:00 a.m. to 4:00 p.m., Monday through Friday, except holidays.

FOR FURTHER INFORMATION CONTACT: Edison Garcia, BLM Nevada State Office, at (775) 861-6530, email: egarcia@blm.gov. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The withdrawal of Parcel “B,” which was withdrawn by PLO No. 6591 (50 FR 10965-10966, March 19, 1985) and extended by PLO No. 7630 (70 FR 18424, April 11, 2005), and serialized as N-35951, expires on April 11, 2025, unless the withdrawal is extended. The purpose of the withdrawal is to protect a communications site and support facilities. Fulfillment of the purpose of this withdrawal requires that it be extended.

The legal land description and acreage described in PLO No. 6591, Parcel B, extended by PLO No. 7630, is revised to reflect the BLM Cadastral Survey's Specification for Descriptions of Land. The revised land description does not change the footprint of the Parcel B lands originally withdrawn by PLO No. 6591; however, the number of acres included in the boundary of the Parcel B lands originally withdrawn has been computed to total approximately 264 acres.

The approximately 264 acres of public lands withdrawn and reserved for Air Force use at Parcel B are located in central Nye County, approximately 77 miles east of Tonopah, on Halligan Mesa, Nevada. Public access to these lands has been restricted since the 1960s; however, public lands surrounding these 264 acres are open to recreation, mining, and other uses. The 264 acres are legally described as:

Mount Diablo Meridian, Nevada

Tps. 7 and 8 N., R. 52 E., unsurveyed,

Parcel 1

Commencing at the northeast corner section 36, T. 8 N., R. 51 E.,

Thence, east, a distance of 8,580 feet;

Thence south, a distance of 2,640 feet to the POINT OF BEGINNING;

Thence west, a distance of 660 feet;

Thence south, a distance of 660 feet;

Thence west, a distance of 660 feet;

Thence south, a distance of 2,640 feet;

Thence west, a distance of 660 feet;

Thence south, a distance of 3,300 feet;

Thence east, a distance of 1,980 feet;

Thence north, a distance of 6,600 feet to the POINT OF BEGINNING.

Parcel 2

From a point beginning 1.5 miles from junction with Highway 6, 5,254 lineal feet of northerly access road to include a 100-foot width on both sides of centerline of said road which extends to the south boundary of Parcel B. (Passes through T. 7 N., R. 52 E., Sections 5 and 8).

The area described contains approximately 264 acres, as computed from the metes and bounds description and the dimensions of the access road.

This legal description differs from the legal description in PLO No. 7630, which was altered from the original description in PLO No. 6591. See PLO No. 6591 for a detailed metes and bounds description for Parcel B (Note: The withdrawal for Parcel A is not included in this notice).

The purpose of the withdrawal extension is to continue the reservation of lands for the Air Force for a communications site and support facilities.

There is no suitable alternative site.

No water rights would be needed to fulfill the purpose of this withdrawal extension.

Before including your address, phone number, email address, or other personal identifying information in your comment, you should be aware that your entire comment—including your personally identifiable information—may be made publicly available at any time. While you may ask the BLM in your comment to withhold your personal identifying information from public review, we cannot guarantee that we will be able to do so.

Notice is hereby given that an opportunity for a public meeting is afforded in connection with the application for withdrawal extension. All interested persons who desire a public meeting for the purpose of being heard on the application for withdrawal extension must submit a written request to the State Director, Nevada State Office, at the address in the ADDRESSES section, within 90 days from the date of publication of this notice. If the authorized officer determines that a public meeting will be held, a notice of the date, time, and place will be published in the Federal Register, local newspapers, and on the BLM website at www.blm.gov at least 30 days before the scheduled date of the meeting.

This withdrawal extension application will be processed in accordance with the regulations set forth in 43 CFR 2310.4.

(Authority: 43 CFR 2310.4)

Jon K. Raby,
State Director.

[FR Doc. 2024-18312 Filed 8-14-24; 8:45 am]

BILLING CODE 4331-21-P